DEPARTMENT OF TRANSPORTATION

Federal Aviation Administration

14 CFR Part 39

[Docket No. FAA-2005-22523; Directorate Identifier 2005-NM-058-AD]

RIN 2120-AA64

Airworthiness Directives; Boeing Model 767 Airplanes

AGENCY: Federal Aviation Administration (FAA), Department of Transportation (DOT).

ACTION: Notice of proposed rulemaking (NPRM).

SUMMARY: The FAA proposes to adopt a new airworthiness directive (AD) for certain Boeing Model 767 airplanes. This proposed AD would require drilling a drain hole in the flanged tubes for the E1A and E1B elevator control cable aft pressure seals; doing repetitive inspections for dirt, loose particles, or blockage of the flanged tube and drain hole for the E1A and E1B elevator control cable aft pressure seals and corrective action if necessary; replacing the aft air-intake duct assembly with a new or modified aft air-intake duct assembly and installing a dripshield; and modifying the side brace fittings and installing gutters on the horizontal stabilizer center section. This proposed AD results from reports of stiff operation of the elevator pitch control system and jammed elevator controls. We are proposing this AD to prevent moisture from collecting and freezing on the elevator control system components, which could limit the ability of the flightcrew to make elevator control inputs and result in reduced controllability of the airplane.

DATES: We must receive comments on this proposed AD by November 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207, for the service information identified in this proposed AD.

FOR FURTHER INFORMATION CONTACT: Kelly McGuckin, Aerospace Engineer, Systems and Equipment Branch, ANM-130S, FAA, Seattle Aircraft Certification Office, 1601 Lind Avenue, SW., Renton, Washington 98055-4056; telephone (425) 917-6490; fax (425) 917-6590.

SUPPLEMENTARY INFORMATION:

Comments Invited

We invite you to submit any relevant written data, views, or arguments regarding this proposed AD. Send your comments to an address listed in the ADDRESSES section. Include the docket number “FAA-2005-22523; Directorate Identifier 2005-NM-058-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received reports of stiff operation of the elevator pitch control system and jammed elevator controls on Model 767 airplanes. One incident involved difficulty in flaring the airplane and resulted in a subsequent hard landing. This incident as well as one other incident was caused by moisture collecting and freezing onto the left elevator cables at the aft pressure bulkhead cable seats. Another incident involved a leaking auxiliary power unit (APU) intake duct seal, which allowed water to collect and freeze onto the linear variable differential transducer (LVDT) for the center elevator autopilot. The manufacturer also determined that water could enter section 48 of the airplane through the stabilizer side of the body fairing panels. These conditions, if not corrected, could limit the ability of the flightcrew to make elevator control inputs and result in reduced controllability of the airplane.

Relevant Service Information

We have reviewed Boeing Service Bulletin 767-27A0192, Revision 1, dated March 17, 2005 (for Model 767-200, -300, and -300F series airplanes); and Boeing Alert Service Bulletin 767-27A0193, dated December 4, 2003 (for Model 767-400ER series airplanes). The service bulletins describe procedures for drilling a drain hole in the flanged tubes for the E1A and E1B elevator control cable aft pressure seals.

We have also reviewed Boeing Service Bulletin 767-27-0204, dated January 27, 2005 (for Model 767-200, -300, and -300F series airplanes); and Boeing Service Bulletin 767-27-0205, dated January 27, 2005 (for Model 767-400ER series airplanes). The service bulletins describe procedures for doing repetitive inspections for dirt, loose particles, or blockage of the flanged tube and drain hole for the E1A and E1B elevator control cable aft pressure seals and corrective action if necessary. The corrective action includes cleaning the flanged tube and drain hole.

We have also reviewed Boeing Alert Service Bulletin 767-49A0035, Revision 1, dated December 11, 2003 (for certain Model 767-200, -300, and -300F series airplanes). The service bulletin describes procedures for replacing the aft air-intake duct assembly with a new or modified aft air-intake duct assembly and installing a dripshield.

We have also reviewed Boeing Alert Service Bulletin 767-51A0027, dated December 9, 2004 (for Model 767-200, -300, and -300F series airplanes); and Boeing Alert Service Bulletin 767-51A0028, dated December 9, 2004 (for Model 767-400ER series airplanes). The service bulletins describe procedures for modifying the side brace fittings and installing gutters on the horizontal stabilizer center section. The modification includes drilling a drain hole, doing a dye penetrant inspection for cracks of the drain hole, and applying certain finishes.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Differences Between the Proposed AD and Service Bulletins.”

Differences Between the Proposed AD and Service Bulletins

Boeing Service Bulletin 767-27-0204, dated January 27, 2005; and Boeing Service Bulletin 767-27-0205, dated January 27, 2005; specify an inspection threshold of 24 months after the delivery date of the airplane. However, paragraph (g)(2)(ii) of this proposed AD specifies an inspection threshold of 24 months after the date of issuance of the original standard airworthiness certificate or the date of issuance of the original export certificate of airworthiness. This decision is based on our determination that “delivery date” may be interpreted differently by different operators. We find that our proposed terminology is generally understood within the industry and records will always exist that establish these dates with certainty.

Boeing Alert Service Bulletin 767-51A0027, dated December 9, 2004; and Boeing Alert Service Bulletin 767-51A0028, dated December 9, 2004; do not specify a corrective action if cracks are found during the dye penetrant inspection for cracks of the drain hole specified in Figure 2 of the service bulletins. This proposed AD would require operators to repair this condition according to a method approved by the FAA.

Clarification of Inspection Terminology

In this proposed AD, the inspections specified in Boeing Service Bulletin 767-27-0204, dated January 27, 2005; and Boeing Service Bulletin 767-27-0205, dated January 27, 2005; are referred to as a “detailed inspection.” We have included the definition for a detailed inspection in a note in the proposed AD.

Costs of Compliance

There are about 900 airplanes of the affected design in the worldwide fleet. This proposed AD would affect about 410 airplanes of U.S. registry. The following table provides the estimated costs for U.S. operators to comply with this proposed AD. The average labor rate per hour is $65. We estimate that this proposed AD may have a total fleet cost of up to $1,789,953 for the initial inspection and modifications as well as a fleet cost of $26,650 per inspection cycle for the repetitive inspections.

Estimated Costs
Airplanes | Action | Work hours | Parts | Cost per airplane
Model 767 airplanes identified in Boeing Service Bulletin 767-27A0192, Revision 1, dated March 17, 2005; and Boeing Alert Service Bulletin 767-27A0193, dated December 4, 2003 | Drain hole addition | 2 | $0 | $130.
Model 767 airplanes identified in Boeing Service Bulletin 767-27-0204, dated January 27, 2005; and Boeing Service Bulletin 767-27-0205, dated January 27, 2005 | Drain Hole Inspection | 1 | $0 | $65, per inspection cycle.
Model 767-200, -300, and -300F series airplanes identified in Boeing Alert Service Bulletin 767-49A0035, Revision 1, dated December 11, 2003 | Aft Air-intake Duct Assembly and Dripshield Installation | 4 | $1,462 for rework kit (optional—$18,985 for new assembly used for first replacement to generate a spare assembly) | $1,722 with rework kit (optional—$19,245 with new assembly used for first replacement to generate a spare assembly).
Model 767 airplanes dentified in Boeing Alert Service Bulletin 767-51A0027, dated December 9, 2004; and Boeing Alert Service Bulletin 767-51A0028, dated December 9, 2004 | Gutter Installation | 9 | $1,821 | $2,406.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2005-22523; Directorate Identifier 2005-NM-058-AD.

Comments Due Date

(a) The FAA must receive comments on this AD action by November 14, 2005.

Affected ADs

(b) None.

Applicability

(c) This AD applies to Boeing Model 767-200, -300, -300F, and -400ER series airplanes, certificated in any category; as identified in Boeing Service Bulletin 767-27A0192, Revision 1, dated March 17, 2005; Boeing Alert Service Bulletin 767-27A0193, dated December 4, 2003; Boeing Alert Service Bulletin 767-49A0035, Revision 1, dated December 11, 2003; Boeing Service Bulletin 767-27-0204, dated January 27, 2005; Boeing Service Bulletin 767-27-0205, dated January 27, 2005; Boeing Alert Service Bulletin 767-51A0027, dated December 9, 2004; and Boeing Alert Service Bulletin 767-51A0028, dated December 9, 2004.

Unsafe Condition

(d) This AD results from reports of stiff operation of the elevator pitch control system and jammed elevator controls. We are issuing this AD to prevent moisture from collecting and freezing on the elevator control system components, which could limit the ability of the flightcrew to make elevator control inputs and result in reduced controllability of the airplane.

Compliance

(e) You are responsible for having the actions required by this AD performed within the compliance times specified, unless the actions have already been done.

Inspections, Modifications, Replacements, and Corrective Actions

(f) For airplanes identified in Boeing Service Bulletin 767-27A0192, Revision 1, dated March 17, 2005; and Boeing Alert Service Bulletin 767-27A0193, dated December 4, 2003: Within 18 months after the effective date of this AD, drill a drain hole in the flanged tubes for the E1A and E1B elevator control cable aft pressure seals by doing all the actions specified in the Accomplishment Instructions of Boeing Service Bulletin 767-727A0192, Revision 1, dated March 17, 2005 (for Model 767-200, -300, and -300F series airplanes); and Boeing Alert Service Bulletin 767-27A00193, dated December 4, 2003 (for Model 767-400ER series airplanes); as applicable.

(g) For airplanes identified in Boeing Service Bulletin 767-27-0204, dated January 27, 2005; and Boeing Service Bulletin 767-27-0205, dated January 27, 2005: At the applicable time specified in paragraph (g)(1) or (g)(2) of this AD, do a detailed inspection for dirt, loose particles, or blockage of the flanged tube and drain hole for the E1A and E1B elevator control cable aft pressure seals, and any applicable corrective action, by doing all the actions specified in the Accomplishment Instructions of Boeing Service Bulletin 767-27-0204, dated January 27, 2005 (for Model 767-200, -300, and -300F series airplanes); and Boeing Service Bulletin 767-27-0205, dated January 27, 2005 (for Model 767-400ER series airplanes); as applicable. Do any applicable corrective actions before further flight. Repeat the detailed inspection thereafter at intervals not to exceed 24 months.

(1) For airplanes identified in paragraph (g) that are also identified in paragraph (f) of this AD: Do the inspection at the time specified in paragraph (g)(1)(i) or (g)(1)(ii) of this AD, whichever occurs later.

(i) Within 24 months after doing the actions required by paragraph (f) of this AD.

(ii) Within 24 months after the effective date of this AD.

(2) For airplanes identified in paragraph (g) that are not identified in paragraph (f) of this AD: Do the inspection at the time specified in paragraph (g)(2)(i) or (g)(2)(ii) of this AD, whichever occurs later.

(i) Within 24 months after the effective date of this AD.

(ii) Within 24 months since the date of issuance of the original standard airworthiness certificate or the date of issuance of the original export certificate of airworthiness.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(h) For airplanes identified in Boeing Alert Service Bulletin 767-49A0035, Revision 1, dated December 11, 2003: Within 18 months after the effective date of this AD, replace the aft air-intake duct assembly with a new or modified aft air-intake duct assembly and install a dripshield by doing all the actions specified in the Accomplishment Instructions of Boeing Alert Service Bulletin 767-49A0035, Revision 1, dated December 11, 2003.

(i) For airplanes identified in Boeing Alert Service Bulletin 767-51A0027, dated December 9, 2004; and Boeing Alert Service Bulletin 767-51A0028, dated December 9, 2004: Within 60 months after the effective date of this AD, modify the side brace fittings and install gutters on the horizontal stabilizer center section, by doing all the actions specified in the Accomplishment Instructions of Boeing Alert Service Bulletin 767-51A0027, dated December 9, 2004 (for Model 767-200, -300, and -300F series airplanes); and Boeing Alert Service Bulletin 767-51A0028, dated December 9, 2004 (for Model 767-400ER series airplanes); as applicable; except if cracks are found during the dye penetrant inspection specified in Figure 2 of the service bulletins, this AD requires, before further flight, operators to repair this condition according to a method approved by the Manager, Seattle Aircraft Certification Office (ACO), FAA. For a repair method to be approved by the Manager, Seattle ACO, as required by this paragraph, the Manager's approval letter must specifically refer to this AD.

Actions Accomplished According to Previous Issue of Service Bulletin

(j) Actions accomplished before the effective date of this AD according to Boeing Alert Service Bulletin 767-27A0192, dated December 4, 2003, are considered acceptable for compliance with the corresponding actions specified in this AD.

Alternative Methods of Compliance (AMOCs)

(k)(1) The Manager, Seattle ACO, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Issued in Renton, Washington, on September 16, 2005.
Ali Bahrami,
Manager, Transport Airplane Directorate, Aircraft Certification Service.

[FR Doc. 05-19234 Filed 9-26-05; 8:45 am]

BILLING CODE 4910-13-P